FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, if any, are available for immediate inspection at the Federal Reserve Bank indicated. The applications will also be available for inspection at the offices of the Board of Governors. Interested persons may express their views in writing on the standards enumerated in section 3 of the BHC Act (12 U.S.C. 1842(c)). If the proposal also involves the acquisition of a nonbanking company, the review also includes whether the acquisition of the nonbanking company complies with the standards in section 4 of the BHC Act (12 U.S.C. 1843), and interested persons may express their views in writing on the standards enumerated in section 4. Unless otherwise noted, nonbanking activities will be conducted throughout the United States.

Comments regarding each of these applications must be received at the Reserve Bank indicated or the offices of the Board of Governors, Ann E. Misback, Secretary of the Board, 20th and Constitution Avenue NW, Washington DC 20551-0001, not later than November 25, 2019.

A. Federal Reserve Bank of Atlanta (Kathryn Haney, Assistant Vice President) 1000 Peachtree Street NE, Atlanta, Georgia 30309. Comments can also be sent electronically to Applications.Comments@atl.frb.org:

1. Community First Bancshares, MHC, and Community First Bancshares, Inc., both of Covington, Georgia; a mutual savings and loan holding company and a mid-tier stock savings and loan holding company, respectively, to become bank holding companies by acquiring ABB Financial Group, Inc., and thereby indirectly acquire Affinity Bank, both of Atlanta, Georgia, under section 3 of the BHC Act. In connection with this application, Community First Bancshares, MHC and Community First Bancshares, Inc. to retain ownership of Newton Federal Bank, Covington, Georgia, a savings association, for the time that they are bank holding companies and thereby engage in operating a savings association pursuant to section 4(c)(8) of the BHC Act. Finally, Community First Bancshares, MHC, and Community First Bancshares, Inc. to become a mutual savings and loan holding company and a mid-tier savings and loan holding company, respectively, pursuant to section 10(e) of the Home Owners' Loan Act, following the merger of Affinity Bank with and into Newton Federal Bank.

Board of Governors of the Federal Reserve System, October 18, 2019.
Michele Taylor Fennell,
Assistant Secretary of the Board.

[FR Doc. 2019-23110 Filed 10-22-19; 8:45 am]

BILLING CODE 6210-01-P